DEPARTMENT OF LABOR

Employment and Training Administration

[TA-W-39,213, TA-W-39,213A]

Chicago Specialties, LLC, Chicago, IL; Chicago Specialties, LLC, Sales Office, Westlake, OH; Amended Certification Regarding Eligibility To Apply for Worker Adjustment Assistance

In accordance with section 223 of the Trade Act of 1974 (19 U.S.C. 2273) the Department of Labor issued a notice of Certification Regarding Eligibility to Apply for Worker Adjustment Assistance on May 31, 2001, applicable to workers of Chicago Specialties, LLC, Chicago, Illinois. The notice was published in the Federal Register on June 14, 2001 (66 FR 32389).

At the request of the company, the Department reviewed the certification for workers of the subject firm. The company reports that worker separations occurred at the sales Office Westlake, Ohio location of Chicago Specialties, LLC. The Westlake, Ohio workers provide sales support function services for the subject firm's production facility in Chicago, Illinois.

Based on these findings, the Department is amending this certification to include workers of Chicago Specialties, LLC, Sales Office, Westlake, Ohio.

The intent of the Department's certification is to include all workers of Chicago Specialties, LLC who were adversely affected by increased imports of Para Cresol.

The amended notice applicable to TA-W-39-213 is hereby issued as follows:

All workers of Chicago Specialties, LLC, Chicago, Illinois (TA-W-39-213) and Chicago Specialties, LLC, Sales Office, Westlake, Ohio (TA-W-39,213A) who became totally or partially separated from employment on or after April 23, 2000, through May 31, 2003, are eligible to apply for adjustment assistance under section 223 of the Trade Act of 1974.

Signed at Washington, DC this 9th day of April, 2002.
Linda G. Poole,
Certifying Officer, Division of Trade Adjustment Assistance.

[FR Doc. 02-9741 Filed 4-19-02; 8:45 am]

BILLING CODE 4510-30-M